DEPARTMENT OF TRANSPORTATION

Maritime Administration

Voluntary Intermodal Sealift Agreement (VISA)/Joint Planning Advisory Group (JPAG)

AGENCY: Maritime Administration, DOT.

ACTION: Synopsis of September 19, 2001 meeting with VISA participants.

On September 19, 2001, a Voluntary Intermodal Sealift Agreement (VISA) Joint Planning Advisory Group (JPAG) meeting was held via video telephonic conference (VTC). The sites connected by the VTC were the Military Sealift Command headquarters, Washington, DC, the Military Traffic Management Command, Alexandria, Virginia, and the U.S. Transportation Command, Scott Air Force Base, Illinois.

Meeting attendance was by invitation only, due to the classified nature of the information discussed and the requirement for a government-issued security clearance. Of the 53 U.S.-flag carrier corporate participants enrolled in VISA at the time of the meeting, 17 cleared carrier representative companies participated in the JPAG VTC. In addition, JPAG attendance included representatives from the Department of Defense and the Maritime Administration (MARAD).

The purpose of the JPAG was to update VISA participants about sealift operations in response to the terrorist attacks of September 11, 2001. The meeting convened at 2:00 p.m. EDT and adjourned at 3:30 p.m.

The full text of the VISA program is published in 66 FR 10938-10947, dated February 20, 2001. One of the program requirements is that MARAD periodically publish a list of VISA participants in the Federal Register. As of September 19, 2001, the following commercial U.S.-flag vessel operators were enrolled in VISA with MARAD: Alaska Cargo Transport, Inc., American Automar, Inc., American President Lines, Ltd., American Roll-On Roll-Off Carrier, LLC, American Ship Management, L.L.C., Automar International Car Carrier, Inc., Beyel Brothers Inc., Caribe USA, Inc., Central Gulf Lines, Inc., Cook Inlet Marine, Crowley Liner Services, Inc., Crowley Marine Services, Inc., CSX Lines, LLC, E-Ships, Inc., Farrell Lines Incorporated, First American Bulk Carrier Corp., First Ocean Bulk Carrier-I, LLC, First Ocean Bulk Carrier-II, LLC, First Ocean Bulk Carrier-III, LLC, Foss Maritime Company, Gimrock Maritime, Inc., Liberty Shipping Group Limited Partnership, Lockwood Brothers, Inc., Lykes Lines Limited, LLC, Lynden Incorporated, Maersk Line, Limited, Matson Navigation Company, Inc., Maybank Navigation Company, LLC, McAllister Towing and Transportation Co., Inc., Moby Marine Corporation, NPR, Inc., Ocean Marine Shipping, Inc., Odyssea Shipping Line, LLC, OSG Car Carriers, Inc., Resolve Towing & Salvage, Inc., Samson Tug & Barge Company, Inc., Sea Star Line, LLC, Seacor Marine International Inc., Sealift Inc., Signet Maritime Corporation, Smith Maritime, STEA Corporation, Stevens Towing Co., Superior Marine Services, Inc., Totem Ocean Trailer Express, Inc., Trailer Bridge, Inc., TransAtlantic Lines LLC, Trico Marine Operators, Inc., Troika International, Ltd., U.S. Ship Management, Inc., Van Ommeren Shipping (USA) LLC, Waterman Steamship Corporation, and Weeks Marine, Inc.

CONTACT PERSON FOR ADDITIONAL INFORMATION: Mr. William F. Trost, Acting Director, Office of Sealift Support, (202) 366-2323.

By order of the Maritime Administrator.
Dated: October 1, 2001.
Joel C. Richard,
Secretary.

[FR Doc. 01-24973 Filed 10-4-01; 8:45 am]

BILLING CODE 4910-81-P